DEPARTMENT OF COMMERCE

Foreign-Trade Zones Board

[B-64-2023]

Foreign-Trade Zone (FTZ) 94; Authorization of Production Activity; PREH INC.; (Automotive Display Assemblies); Laredo, Texas

On December 6, 2023, the City of Laredo, grantee of FTZ 94, submitted a notification of proposed production activity to the FTZ Board on behalf of PREH INC., within FTZ 94, in Laredo, Texas.

The notification was processed in accordance with the regulations of the FTZ Board (15 CFR part 400), including notice in the Federal Register inviting public comment (88 FR 87751, December 19, 2023). On April 4, 2024, the applicant was notified of the FTZ Board's decision that no further review of the activity is warranted at this time. The production activity described in the notification was authorized, subject to the FTZ Act and the FTZ Board's regulations, including section 400.14.

Dated: April 4, 2024.
Elizabeth Whiteman,
Executive Secretary.

[FR Doc. 2024-07526 Filed 4-8-24; 8:45 am]

BILLING CODE 3510-DS-P